FEDERAL RESERVE SYSTEM

Proposed Agency Information Collection Activities; Comment Request

Correction

In notice document 2011-29874 appearing on pages 71968-71975 in the issue of November 21, 2011, make the following correction:

On page 71969, in the first column, under the DATES heading, in the second line, “December 12, 2011” should read “January 20, 2012”.

[FR Doc. C1-2011-29874 Filed 11-23-11; 8:45 am]

BILLING CODE 1505-01-D